DEPARTMENT OF COMMERCE

National Oceanic and Atmospheric Administration

[I.D. 061203F]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: National Marine Sanctuaries - Socioeconomic Impacts of Marine Reserves.

Form Number(s): None.

OMB Approval Number: 0648-0408.

Type of Request: Regular submission.

Burden Hours: 1,330.

Number of Respondents: 665.

Average Hours Per Response: 2.

Needs and Uses: NOAA's National Marine Sanctuaries are authorized under the National Marine Sanctuary Act to use zoning to prohibit or restrict uses in certain portions (zones) of sanctuaries. Ecological Reserves, Sanctuary Preservation Areas, or Marine Reserves (no-take zones) are being proposed. There is a need to evaluate the socioeconomic impact that no-take zones might have on different user groups. Those activities that might be displaced from no-take zones include commercial fishing operations, recreational fishing operations, and individuals takes of anything in the area. The surveys will collect socioeconomic data for use by NOAA, sanctuary advisory councils, and similar participants in the planning process.

Affected Public: Business or other for-profit organizations, individuals or households, and not-for-profit institutions.

Frequency: Annually, one-time.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Room 10202, New Executive Office Building, Washington, DC 20503.

Dated: June 11, 2003.
Gwellnar Banks,
Management Analyst, Office of the Chief Information Officer.

[FR Doc. 03-15404 Filed 6-17-03; 8:45 am]

BILLING CODE 3510-NK-S